NUCLEAR REGULATORY COMMISSION

Sunshine Act Meeting

Agency Holding the Meeting: Nuclear Regulatory Commission.

Date: Weeks of August 4, 11, 18, 25, September 1, 8, 2003.

Place: Commissioners Conference Room, 11555 Rockville Pike, Rockville, Maryland.

Status: Public and closed.

Matters To Be Considered:

Week of August 4, 2003

There are no meetings scheduled for the Week of August 4, 2003.

Week of August 11, 2003—Tentative,

There are no meetings scheduled for the Week of August 11, 2003.

Week of August 18, 2003—Tentative

There are no meetings scheduled for the Week of August 18, 2003.

Week of August 25, 2003—Tentative

Monday, August 25, 2003

9:30 a.m.—Discussion in Investigatory and Enforcement Issued (Closed—Ex. 7 & 5).

Week of September 1, 2003—Tentative

There are no meetings scheduled for the Week of September 1, 2003.

Week of September 8, 2003—Tentative

Wednesday, September 10, 2003

1 p.m.—Meeting with Organization of Agreement States (OAS) and Conference of Radiation Control Program Directors (CRCPD) (Public Meeting) (Contact: John Zabko, 301-415-2308).

This meeting will be Webcast live at the Web address—http//www.nrc.gov

3 p.m.—Discussion of Security Issues (Closed—Ex. 1).

Thursday, September 11, 2003

1:30 p.m.—Discussion of Security Issues (Closed—Ex. 1).

* The schedule for Commission meetings is subject to change on short notice. To verify the status of meetings call (recording)—(301 415-1292. Contact person for more information: David Louis Gamberoni (301) 415-1651.

* * * * *

Additional Information: “Briefing on License Renewal Program, Power Uprate Activities, and High Priority Activities,'' previously scheduled for August 27th, 2003 has been postponed.

* * * * *

The NRC Commission Meeting Schedule can be found on the Internet at: http//www.nrc.gov/what-we-do/policy-making/schedule.html

* * * * *

This notice is distributed by mail to several hundred subscribers; if you no longer wish to receive it, or would like to be added to the distribution, please contact the Office of the Secretary, Washington, DC 20555 (301-415-1969). In addition, distribution of this meeting notice over the Internet system is available. If you are interested in receiving this Commission meeting schedule electronically, please send an electronic message to dkw@nrc.gov.

Dated: July 31, 2003.
D.L. Gamberoni,
Technical Coordinator, Office of the Secretary.

[FR Doc. 03-19985 Filed 8-1-03; 8:45 am]

BILLING CODE 7590-01-M